DEPARTMENT OF THE TREASURY

Senior Executive Service Departmental Performance Review Board

AGENCY: Treasury Department.

ACTION: Notice of members of the Departmental Performance Review Board (PRB).

SUMMARY: Pursuant to 5 U.S.C. 4314(C)(4), this notice announces the appointment of members of the Department PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Edward R. KIngman, Assistant Secretary for Management and CFO—Chairperson

Kay Frances Dolan, DAS for Human Resources

David A. Lebryk, Deputy Assistant Secretary for Fiscal Operations and Policy

Donald V. Hammond, Fiscal Assistant Secretary

Timothy D. Adams, Chief of Staff

Jeffrey F. Kupfer, Executive Secretary

Michelle A. Davis, Assistant Secretary (Public Affairs)

Kenneth E. Lawson, Assistant Secretary (Enforcement)

Brian C. Roseboro, Assistant Secretary (Financial Markets)

Juan C. Zarate, Deputy Assistant Secretary (Terrorism and Violent Crimes)

Teresa Mullet Ressel, Deputy Assistant Secretary (Management and Budget)

Willie E. Wright, Jr., Chief, Management and Administrative Programs

Bradley A. Buckles, Director, Bureau of Alcohol, Tobacco and Firearms

Mark Logan, Assistant Director (Liaison and Public Information), Bureau of Alcohol, Tobacco and Firearms

Candace E. Moberly, Deputy Assistant Director (Management), Bureau of Alcohol, Tobacco and Firearms

Robert C. Bonner, Commissioner, U.S. Customs Service

Douglas M. Browning, Deputy Commissioner, U.S. Customs Service

Marjorie L. Budd, Assistant Commissioner (Training and Development), U.S. Customs Service

Brian L. Stafford, Director, U.S. Secret Service

Carlton D. Spriggs, Deputy Director, U.S. Secret Service

Henrietta H. Fore, Director U.S. Mint

Jay M. Weinstein, Associate Director (Policy & Management)/CFO, U.S. Mint

Richard L. Gregg, Commissioner, Financial Management Service

Kenneth R. Papaj, Deputy Commissioner, Financial Management Service

Thomas A. Ferguson, Director, Bureau of Engraving and Printing

Carla F. Kidwell, Associate Director (Technology), Bureau of Engraving and Printing

John M. Dalrymple, Commissioner, Wage and Investment Division, Internal Revenue Service

David A. Mader, Assistant Deputy Commissioner Operations, Internal Revenue Service

Deborah M. Nolan, Deputy Commissioner, Large and Mid-Sized Business Division, Internal Revenue Service

Evelyn A. Petschek, Commissioner, Tax Exempt and Government Entities Division, Internal Revenue Service

Toni L. Zimmerman, Deputy CIO (Operations), Internal Revenue Service

Henry O. Lamar, Deputy National Taxpayer Advocate, Internal Revenue Service

Helen Bolton, Director, HR Policy and Programs, Information Systems, Internal Revenue Service

Frederick Van Zeck, Commissioner, Bureau of the Public Debt

Anne M. Meister, Deputy Commissioner, Bureau of the Public Debt

George B. Wolfe, Deputy General Counsel

Roberta K. McInerney, Assistant General Counsel (Banking & Finance)

Kenneth R. Schmalzbach, Assistant General Counsel (General Law & Ethics)

John C. Dooher, Senior Associate Director (Washington Office), Federal Law Enforcement Training Center

DATES: Membership is effective on the date of this notice.

FOR FURTHER INFORMATION CONTACT: Ronald A. Glaser, Department of the Treasury, Director, Office of Personnel Policy, Metropolitan Square Building, Room 6075, 15th and Pennsylvania Ave., NW., Washington, DC 20220, Telephone: (202) 622-1890.

This notice does not meet the Department's criteria for significant regulations.

Ronald A. Glaser,
Director Office of Personnel Policy.

[FR Doc. 02-19333 Filed 7-30-02; 8:45 am]

BILLING CODE 4811-20-M